DEPARTMENT OF TRANSPORTATION

Federal Railroad Administration

49 CFR Part 219

[Docket No. FRA 2001-11068, Notice No. 2]

RIN 2130-AB39

Control of Alcohol and Drug Use: Proposed Application of Random Testing and Other Requirements to Employees of a Foreign Railroad Who Are Based Outside the United States and Perform Train or Dispatching Service in the United States; Request for Comment on Even Broader Application of Rules and on Implementation Issues

AGENCY: Federal Railroad Administration (FRA), Department of Transportation (DOT).

ACTION: Proposed rule; public hearing.

SUMMARY: FRA's regulation on the control of alcohol and drug use, which applies to all railroads that operate on the general railroad system of transportation in the United States, currently exempts certain operations by foreign railroads and certain small railroads from some of the regulation's requirements. On December 11, 2001 (66 FR 64000), FRA published a Notice of Proposed Rulemaking (NPRM) proposing to narrow the scope of these exemptions.

The NPRM also invites a discussion of alcohol and drug program implementation issues, and comment on whether FRA should expand the basis for requiring post-accident testing and testing for cause to include events that occur outside the United States. This notice announces the scheduling of a public hearing to allow interested parties the opportunity to comment on these issues.

DATES: Public Hearing: The date of the public hearing is Thursday, February 14, 2002, at 9 a.m. in Washington, DC. Any person wishing to participate in the public hearing should notify the Docket Clerk by telephone (202-493-6030) or by mail at the address provided below at least five working days prior to the date of the hearing and submit to the Docket Clerk three copies of the oral statement that he or she intends to make at the hearing. The notification should identify the party the person represents, and the particular subject(s) the person plans to address. The notification should also provide the Docket Clerk with the participant's mailing address.

ADDRESSES: (1) Docket Clerk: Written notification should identify the docket number and must be submitted in triplicate to Ms. Ivornette Lynch, Docket Clerk, Office of Chief Counsel, Federal Railroad Administration, RCC-10, 1120 Vermont Ave., NW., Stop 10, Washington, DC 20590.

(2) Public Hearing: The public hearing will be held at 1120 Vermont Avenue, NW., Washington, DC 20005. The hearing room will be Room 1001A on the 10th floor. Attendees should first present an identification card with photograph (such as a current driver's license) to the security counter at the Federal Railroad Administration offices on the 7th floor, and follow security procedures as provided at that location.

FOR FURTHER INFORMATION CONTACT: Lamar Allen, Alcohol and Drug Program Manager, FRA Office of Safety, RRS-11, 1120 Vermont Avenue, NW., Mail Stop 25, Washington, DC 20590 (telephone 202-493-6313); or Patricia V. Sun, Trial Attorney, Office of the Chief Counsel, RCC-11, 1120 Vermont Avenue, NW., Mail Stop 10, Washington, DC 20590 (telephone 202-493-6038).

Issued in Washington, DC, on January 16, 2002.
Allan Rutter,
Federal Railroad Administrator.

[FR Doc. 02-1637 Filed 1-22-02; 8:45 am]

BILLING CODE 4910-06-P